DEPARTMENT OF THE INTERIOR

Bureau of Land Management

[LLWO300000.L1430000]

Notice of Public Meetings

AGENCY: Bureau of Land Management, Interior.

ACTION: Notice.

SUMMARY: Notice is hereby given that the Bureau of Land Management (BLM) will hold two public meetings in connection with a proposed withdrawal published April 21, 2011, in the Federal Register [77 FR 22414]. The first meeting will be held Wednesday, July 6, 2011, from 6 p.m. to 8 p.m. at the BLM Southern Nevada District Office, 4701 North Torrey Pines Drive, Las Vegas, Nevada 89130. A second meeting will be held Thursday, July 7, 2011, from 6 p.m. to 8 p.m. at The Ambassador Hotel Victorville, 15494 Palmdale Road, Victorville, California 92392. The public will have an opportunity to provide oral and written comments at these meetings.

FOR FURTHER INFORMATION CONTACT: Linda Resseguie, BLM, by telephone at (202) 912-7337, or by e-mail at linda_resseguie@blm.gov.

Kim M. Berns,
Acting Assistant Director, Minerals and Realty Management, Bureau of Land Management.

[FR Doc. 2011-13775 Filed 6-2-11; 8:45 am]

BILLING CODE 4310-84-P